DEPARTMENT OF ENERGY

Federal Energy Regulatory Commission

[Docket No. RM07-16-000; RM01-5-000]

Filing Via the Internet; Electronic Tariff Filings Notice of Display of Time on Commission's Electronic Filing System

June 28, 2010.

Take notice that the Commission will now display on its electronic filing system the time used by the Commission to mark officially the time that eFilings and eTariff submissions are made with the Commission. This time also will be used to determine whether filings have been made timely. The time display will assist users in ensuring that their filings are timely filed, i.e., are filed in advance of the Commission's 5 p.m. Eastern time deadline for filing on that day.

The time will display to the second on all screens after log-in, including those for eTariff submissions. The time a filing is made is established when the last file uploaded appears in the table at the bottom of the File Upload screen. ¹ Filings made after the Commission's 5 p.m. Eastern time deadline are considered as having been filed on the following day. See 18 CFR 375.105 (2010).

¹ The Commission encourages electronic submissions in lieu of paper using the eFiling link at http://www.ferc.gov. Also, Filing Procedures For Electronically Filed Tariffs, Rate Schedules And Jurisdictional Agreements has been posted on the eTariff Web site (http://www.ferc.gov/docs-filing/etariff.asp) under Commission Orders and Notices at http://www.ferc.gov/docs-filing/etariff/com-order.asp.

Filers, particularly those filing requests for rehearing where the deadline for filing is set by statute and cannot be waived, are strongly encouraged to file well in advance of 5 p.m. to minimize the possibility that unexpected problems may delay the filing beyond the 5p.m. Eastern time deadline for filing.

Kimberly D. Bose,
Secretary.

[FR Doc. 2010-16284 Filed 7-2-10; 8:45 am]

BILLING CODE 6717-01-P